DEPARTMENT OF LABOR

Employment and Training Administration

[TA-W-63,165]

Maco Steel, Inc.; Belmont, MI; Notice of Termination of Investigation

Pursuant to Section 221 of the Trade Act of 1974, as amended, an investigation was initiated on April 9, 2008, in response to a petition filed on behalf of workers at Maco Steel, Inc., Belmont, Michigan.

The petition dated March 27, 2008, regarding the investigation has been deemed invalid. In order to establish a valid petition, there must be at least three petitioners who were terminated no more than one year from the petition date. On further review, it became apparent that two of the three workers who signed the subject petition were terminated in 2006, more than one year from the date on the petition. Consequently, the investigation has been terminated.

Signed at Washington, DC, this 21st day of May 2008.
Richard Church,
Certifying Officer, Division of Trade Adjustment Assistance.

[FR Doc. E8-11905 Filed 5-28-08; 8:45 am]

BILLING CODE 4510-FN-P